AGENCY FOR INTERNATIONAL DEVELOPMENT

Notice of Meeting of the Board for International Food and Agricultural Development

Pursuant to the Federal Advisory Committee Act, notice is hereby given of the public meeting of the Board for International Food and Agricultural Development (BIFAD). The meeting will be held from 8:00 a.m. to 5:00 p.m. EDT on Tuesday, September 12, 2017, at the National Press Club, 529 14th St. NW., 13th Floor, Washington, DC 20045, or online at http://www.aplu.org/projects-and-initiatives/international-programs/bifad/bifad-meetings.html.

This public meeting, Global Food Security Research Strategy: From Upstream Research to Development Impact, will be co-hosted with the Feed the Future Innovation Labs. The purpose of the meeting will be to launch the new Global Food Security Research Strategy and to highlight the contributions, collaborations, and synergies among the U.S. Government interagency, universities, international agricultural research centers, and private sector on food security research for development. The meeting will include panels on Cutting Edge Science for Development, Practical Applications of Research Results, Applying Research to Emerging Threats, Opportunities for More Intentional USG Intentional Interagency Alignment and Complementarity, and Opportunities for Leveraging Private Sector Innovation. A public comment period is scheduled from 4:00 to 4:30 EDT.

Those wishing to participate in the meeting in person should arrive early as seating is limited. More information, including a detailed agenda, can be found on the BIFAD landing page at http://www.aplu.org/projects-and-initiatives/international-programs/bifad/bifad-meetings.html.

To obtain additional information about this public meeting or BIFAD, interested parties should contact Clara Cohen, Designated Federal Officer for BIFAD in the Bureau for Food Security at USAID. Interested persons may write to her in care of the U.S. Agency for International Development, Ronald Reagan Building, Bureau for Food Security, 1300 Pennsylvania Avenue NW., Washington, DC 20523-2110 or telephone her at (202) 712-0119.

Clara Cohen,
USAID Designated Federal Officer for BIFAD, Bureau for Food Security, U.S. Agency for International Development.

[FR Doc. 2017-17712 Filed 8-21-17; 8:45 am]

BILLING CODE P